DEPARTMENT OF ENERGY

[FE Docket No. PP-241]

Notice of Floodplain and Wetlands Involvement;Enron North America Corp.

AGENCY: Office of Fossil Energy, DOE.

ACTION: Notice of floodplain/wetland involvement.

SUMMARY: Enron North America Corp. (Enron) has applied for a Presidential permit to construct, operate, maintain, and connect double-circuit electric transmission lines across the U.S. border with Mexico. The proposed action has the potential to impact on a floodplain/wetlands. In accordance with DOE regulations for compliance with floodplain/wetlands environmental review requirements (10 CFR part 1022), floodplain or wetlands assessments will be performed for these proposed actions in a manner so as to avoid or minimize potential harm to or within potentially affected floodplain and wetlands.

DATES: Comments are due to the address below no later than September 20, 2001.

ADDRESSES: Written comments, questions about the proposed action, and requests to review the draft environmental assessment should be directed to: Ellen Russell, Office of Coal & Power Import/Export (FE-27), Office of Fossil Energy, U.S. Department of Energy, 1000 Independence Avenue, SW., Washington, DC 20585-0350. Fax: (202) 287-5736. E-mail: Ellen.Russell@hq.doe.gov.

FOR FURTHER INFORMATION CONTACT: Ellen Russell (Program Office) 202-586-9624 or Michael T. Skinker (Program Attorney) 202-586-6667.

FOR FURTHER INFORMATION ON GENERAL DOE FLOODPLAIN AND WETLANDS ENVIRONMENTAL REVIEW REQUIREMENTS CONTACT: Carol M. Borgstrom, Director, Office of NEPA Policy and Assistance (EH-42), U.S. Department of Energy, 1000 Independence Avenue, SW., Washington, DC 20585-0119; Phone: 202-586-4600 or leave a message at 800-472-2756.

SUPPLEMENTARY INFORMATION: Under Executive Order 11988, Floodplain Management, and 10 CFR Part 1022, Compliance with Floodplain-Wetlands Environmental Review Requirements (http://tis-nt.eh.doe.gov/nepa/tools/regulate/nepa_reg/1022/1022.htm), notice is given that DOE is considering an application from Enron for a Presidential permit to construct, operate, maintain and connect double circuit 230,000 kilovolt (230-kV) transmission lines across the U.S. border with Mexico. Notice of filing of the Enron Presidential permit application appeared in the Federal Register on June 27, 2001 (66 FR 34178).

Before making a final decision on granting or denying a Presidential permit, DOE will prepare an environmental assessment (EA) to address the environmental impacts that would accrue from the proposed project and reasonable alternatives. The EA will be prepared in compliance with the National Environmental Policy Act of 1969 (NEPA) (42 U.S.C. 4321 et seq.). Because the proposed action has the potential to impact on a floodplain/wetlands, the EA will include a floodplain and wetlands assessment. A floodplain statement of findings will be included in any Finding of No Significant Impact (FONSI) that may be issued following completion of the EA. Copies of the EA and FONSI may be requested by telephone, facsimile, or e-mail from the address given above.

Issued in Washington, DC, on August 29, 2001.
Anthony J. Como,
Deputy Director, Electric Power Regulation, Office of Coal & Power Import/Export, Office of Fossil Energy.

[FR Doc. 01-22235 Filed 9-4-01; 8:45 am]

BILLING CODE 6450-01-P